DEPARTMENT OF TRANSPORTATION

Federal Aviation Administration

14 CFR Part 97

[Docket No. 30890; Amdt. No. 3525]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 18, 2013. The compliance date for each SIAP, associated Takeoff Minimums, and ODP is specified in the amendatory provisions.

The incorporation by reference of certain publications listed in the regulations is approved by the Director of the Federal Register as of March 18, 2013.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) Is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on March 1, 2013.
John M. Allen,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

§§ 97.23, 97.25, 97.27, 97.29, 97.31, 97.33, 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
4-Apr-13 | CA | Santa Maria | Santa Maria Pub/Capt G Allan Hancock Fld | 3/3135 | 2/21/2013 | LOC/DME BC A, Amdt 10C
4-Apr-13 | FL | West Palm Beach | Palm Beach Intl | 3/3894 | 2/21/2013 | RNAV (RNP) Z RWY 28R, Orig-B
4-Apr-13 | TX | Rockport | Aransas Co | 3/5472 | 2/21/2013 | RNAV (GPS) RWY 14, Amdt 3
4-Apr-13 | TX | Rockport | Aransas Co | 3/5474 | 2/21/2013 | RNAV (GPS) RWY 18, Orig
4-Apr-13 | TX | Rockport | Aransas Co | 3/5481 | 2/21/2013 | RNAV (GPS) RWY 32, Orig
4-Apr-13 | MO | Trenton | Trenton Muni | 3/5484 | 2/21/2013 | NDB RWY 18, Amdt 7A
4-Apr-13 | AL | Greenville | Mac Crenshaw Memorial | 3/5686 | 2/21/2013 | RNAV (GPS) RWY 14, Orig
4-Apr-13 | AL | Greenville | Mac Crenshaw Memorial | 3/5687 | 2/21/2013 | RNAV (GPS) RWY 32, Orig
4-Apr-13 | IA | Decorah | Decorah Muni | 3/6267 | 2/21/2013 | RNAV (GPS) RWY 11, Orig
4-Apr-13 | MO | St Louis | Lambert-St Louis Intl | 3/6831 | 2/21/2013 | ILS PRM RWY 30R (CAT III) (SIMULTANEOUS CLOSE PARALLEL), Amdt 1B
4-Apr-13 | MO | St Louis | Lambert-St Louis Intl | 3/6832 | 2/21/2013 | ILS PRM RWY 30R (SIMULTANEOUS CLOSE PARALLEL), Amdt 1B
4-Apr-13 | MO | St Louis | Lambert-St Louis Intl | 3/6833 | 2/21/2013 | ILS PRM RWY 30R (CAT II) (SIMULTANEOUS CLOSE PARALLEL), Amdt 1B
4-Apr-13 | TX | Harlingen | Valley Intl | 3/7123 | 2/21/2013 | VOR/DME OR TACAN Y RWY 31, Amdt 1
4-Apr-13 | NJ | Atlantic City | Atlantic City Intl | 3/7184 | 2/21/2013 | ILS OR LOC/DME RWY 31, Orig-A
4-Apr-13 | NJ | Atlantic City | Atlantic City Intl | 3/7185 | 2/21/2013 | VOR RWY 31, Amdt 1
4-Apr-13 | NE | Grant | Grant Muni | 3/7192 | 2/21/2013 | NDB RWY 33, Amdt 3A
4-Apr-13 | NE | Grant | Grant Muni | 3/7193 | 2/21/2013 | NDB RWY 15, Amdt 3A
4-Apr-13 | KY | Covington | Cincinnati/Northern Kentucky Intl | 3/7248 | 2/21/2013 | ILS OR LOC RWY 18C, Amdt 22A
4-Apr-13 | KY | Covington | Cincinnati/Northern Kentucky Intl | 3/7249 | 2/21/2013 | ILS OR LOC RWY 36C, Amdt 41B
4-Apr-13 | KY | Covington | Cincinnati/Northern Kentucky Intl | 3/7250 | 2/21/2013 | ILS RWY 36C (CAT III), Amdt 41B
4-Apr-13 | KY | Covington | Cincinnati/Northern Kentucky Intl | 3/7251 | 2/21/2013 | RNAV (GPS) Y RWY 36C, Amdt 1A
4-Apr-13 | KY | Covington | Cincinnati/Northern Kentucky Intl | 3/7252 | 2/21/2013 | RNAV (RNP) Z RWY 36C, Orig-B
4-Apr-13 | KY | Covington | Cincinnati/Northern Kentucky Intl | 3/7253 | 2/21/2013 | RNAV (GPS) Y RWY 18R, Amdt 1A
4-Apr-13 | KY | Covington | Cincinnati/Northern Kentucky Intl | 3/7254 | 2/21/2013 | RNAV (GPS) Y RWY 18L, Amdt 1A
4-Apr-13 | KY | Covington | Cincinnati/Northern Kentucky Intl | 3/7255 | 2/21/2013 | RNAV (RNP) Z RWY 18R, Orig-B
4-Apr-13 | KY | Covington | Cincinnati/Northern Kentucky Intl | 3/7256 | 2/21/2013 | RNAV (GPS) Y RWY 36L, Amdt 1A
4-Apr-13 | KY | Covington | Cincinnati/Northern Kentucky Intl | 3/7257 | 2/21/2013 | RNAV (GPS) Y RWY 18C, Amdt 1A
4-Apr-13 | KY | Covington | Cincinnati/Northern Kentucky Intl | 3/7258 | 2/21/2013 | RNAV (RNP) Z RWY 18C, Orig-B
4-Apr-13 | KY | Covington | Cincinnati/Northern Kentucky Intl | 3/7259 | 2/21/2013 | RNAV (GPS) Y RWY 36R, Amdt 1A
4-Apr-13 | KY | Covington | Cincinnati/Northern Kentucky Intl | 3/7260 | 2/21/2013 | RNAV (RNP) Z RWY 36R, Orig-B
4-Apr-13 | KY | Covington | Cincinnati/Northern Kentucky Intl | 3/7261 | 2/21/2013 | RNAV (RNP) Z RWY 18L, Orig-B
4-Apr-13 | KY | Covington | Cincinnati/Northern Kentucky Intl | 3/7262 | 2/21/2013 | ILS RWY 36C (CAT II), Amdt 41B
4-Apr-13 | KY | Covington | Cincinnati/Northern Kentucky Intl | 3/7263 | 2/21/2013 | RNAV (RNP) Z RWY 36L, Orig-B
4-Apr-13 | WI | Chetek | Chetek Muni-Southworth | 3/7751 | 2/21/2013 | VOR/DME A, Orig-A
4-Apr-13 | WI | Chetek | Chetek Muni-Southworth | 3/7752 | 2/21/2013 | RNAV (GPS) RWY 35, Orig-A
4-Apr-13 | WI | Chetek | Chetek Muni-Southworth | 3/7753 | 2/21/2013 | RNAV (GPS) RWY 17, Orig-B
4-Apr-13 | WI | Rhinelander | Rhinelander-Oneida County | 3/8188 | 2/21/2013 | ILS OR LOC RWY 9, Amdt 8
4-Apr-13 | WI | Rhinelander | Rhinelander-Oneida County | 3/8189 | 2/21/2013 | RNAV (GPS) RWY 9, Amdt 1
4-Apr-13 | WI | Rhinelander | Rhinelander-Oneida County | 3/8190 | 2/21/2013 | RNAV (GPS) RWY 15, Amdt 1
4-Apr-13 | WI | Rhinelander | Rhinelander-Oneida County | 3/8191 | 2/21/2013 | RNAV (GPS) RWY 27, Amdt 1
4-Apr-13 | TX | Rockwall | Ralph M Hall/Rockwall Muni | 3/8243 | 2/21/2013 | RNAV (GPS) RWY 35, Orig-A
4-Apr-13 | TX | Rockwall | Ralph M Hall/Rockwall Muni | 3/8246 | 2/21/2013 | RNAV (GPS) RWY 17, Orig-A
4-Apr-13 | SD | Winner | Winner Rgnl | 3/8316 | 2/21/2013 | RNAV (GPS) RWY 31, Orig
4-Apr-13 | SD | Winner | Winner Rgnl | 3/8317 | 2/21/2013 | RNAV (GPS) RWY 13, Orig
4-Apr-13 | SD | Winner | Winner Rgnl | 3/8318 | 2/21/2013 | VOR A, Amdt 7
4-Apr-13 | MT | Miles City | Frank Wiley Field | 3/8406 | 2/15/2013 | RNAV (GPS) RWY 22, Orig
4-Apr-13 | CA | Santa Ana | John Wayne Airport-Orange County | 3/8408 | 2/15/2013 | RNAV (GPS) RWY 1L, Orig
4-Apr-13 | ID | Idaho Falls | Idaho Falls Rgnl | 3/8410 | 2/15/2013 | ILS OR LOC RWY 20, Amdt 11F
4-Apr-13 | TN | Selmer | Robert Sibley | 3/8719 | 2/20/2013 | RNAV (GPS) RWY 35, Orig
4-Apr-13 | TN | Selmer | Robert Sibley | 3/8720 | 2/20/2013 | RNAV (GPS) RWY 17, Orig
4-Apr-13 | NJ | Berlin | Camden County | 3/8743 | 2/21/2013 | RNAV (GPS) RWY 5, Orig-B
4-Apr-13 | CA | Arcata/Eureka | Arcata | 3/8744 | 2/20/2013 | RNAV (GPS) RWY 32, Amdt 1A
4-Apr-13 | CA | Arcata/Eureka | Arcata | 3/8745 | 2/20/2013 | ILS Y OR LOC/DME RWY 32, Amdt 2A
4-Apr-13 | CA | Arcata/Eureka | Arcata | 3/8746 | 2/20/2013 | ILS Z RWY 32, Amdt 30
4-Apr-13 | AZ | Coolidge | Coolidge Muni | 3/8808 | 2/21/2013 | VOR/DME RWY 5, Orig
4-Apr-13 | ME | Bar Harbor | Hancock County-Bar Harbor | 3/9017 | 2/21/2013 | RNAV (GPS) RWY 22, Amdt 1
4-Apr-13 | GA | Greensboro | Greene County Rgnl | 3/9018 | 2/21/2013 | RNAV (GPS) RWY 7, Amdt 1
4-Apr-13 | GA | Greensboro | Greene County Rgnl | 3/9019 | 2/21/2013 | VOR/DME B, Amdt 2
4-Apr-13 | ME | Bar Harbor | Hancock County-Bar Harbor | 3/9020 | 2/21/2013 | RNAV (GPS) RWY 4, Amdt 1
4-Apr-13 | ME | Bar Harbor | Hancock County-Bar Harbor | 3/9021 | 2/21/2013 | ILS OR LOC RWY 22, Amdt 6A
4-Apr-13 | GA | Greensboro | Greene County Rgnl | 3/9022 | 2/21/2013 | RNAV (GPS) RWY 25, Amdt 1A
4-Apr-13 | GA | Greensboro | Greene County Rgnl | 3/9023 | 2/21/2013 | LOC RWY 25, Amdt 3A
4-Apr-13 | NJ | Teterboro | Teterboro | 3/9039 | 2/21/2013 | VOR/DME A, Amdt 2B
4-Apr-13 | NJ | Teterboro | Teterboro | 3/9040 | 2/21/2013 | ILS RWY 19, Orig
4-Apr-13 | NJ | Teterboro | Teterboro | 3/9041 | 2/21/2013 | VOR/DME RWY 6, Orig-C
4-Apr-13 | NJ | Teterboro | Teterboro | 3/9042 | 2/21/2013 | VOR/DME B, Amdt 2C
4-Apr-13 | NJ | Teterboro | Teterboro | 3/9043 | 2/21/2013 | VOR RWY 24, Orig-A
4-Apr-13 | MD | Baltimore | Baltimore/Washington Intl Thurgood Marshall | 3/9061 | 2/20/2013 | ILS OR LOC RWY 33R, Amdt 2A
4-Apr-13 | PA | Somerset | Somerset County | 3/9137 | 2/21/2013 | NDB RWY 25, Amdt 7
4-Apr-13 | NY | New York | La Guardia | 3/9163 | 2/20/2013 | ILS OR LOC RWY 22, Amdt 20A
4-Apr-13 | NY | New York | La Guardia | 3/9164 | 2/20/2013 | LDA A, Amdt 2B
4-Apr-13 | NY | New York | La Guardia | 3/9165 | 2/20/2013 | COPTER ILS OR LOC/DME RWY 22, Amdt 2
4-Apr-13 | NY | New York | La Guardia | 3/9166 | 2/20/2013 | VOR F, Amdt 3
4-Apr-13 | NY | New York | La Guardia | 3/9167 | 2/20/2013 | VOR RWY 4, Amdt 3
4-Apr-13 | NY | New York | La Guardia | 3/9168 | 2/20/2013 | VOR/DME H, Amdt 3
4-Apr-13 | NY | New York | La Guardia | 3/9169 | 2/20/2013 | VOR/DME G, Amdt 2A
4-Apr-13 | NY | New York | La Guardia | 3/9170 | 2/20/2013 | COPTER ILS OR LOC RWY 13, Orig
4-Apr-13 | NY | New York | La Guardia | 3/9171 | 2/20/2013 | LOC RWY 31, Amdt 3
4-Apr-13 | MD | Elkton | Cecil County | 3/9258 | 2/20/2013 | RNAV (GPS) RWY 31, Orig-B
4-Apr-13 | MD | Elkton | Cecil County | 3/9259 | 2/20/2013 | VOR/DME RWY 31, Orig-B
4-Apr-13 | NY | New York | La Guardia | 3/9411 | 2/20/2013 | ILS OR LOC RWY 4, Amdt 35A
2-May-13 | AK | Kalskag | Kalskag | 3/8404 | 2/25/2013 | RNAV (GPS) RWY 6, Orig
2-May-13 | AK | Bethel | Bethel | 3/8478 | 2/25/2013 | RNAV (GPS) RWY 1L, Amdt 1
2-May-13 | AK | Bethel | Bethel | 3/8479 | 2/25/2013 | RNAV (GPS) RWY 1R, Orig-A
2-May-13 | AK | Bethel | Bethel | 3/8480 | 2/25/2013 | RNAV (GPS) RWY 19L, Orig
2-May-13 | AK | Bethel | Bethel | 3/8481 | 2/25/2013 | ILS OR LOC/DME Y, RWY 19R, Orig
2-May-13 | AK | Bethel | Bethel | 3/8482 | 2/25/2013 | VOR/DME RWY 1L, Amdt 2
2-May-13 | AK | Bethel | Bethel | 3/8483 | 2/25/2013 | RNAV (GPS) RWY 19R, Amdt 2
2-May-13 | AK | Bethel | Bethel | 3/8484 | 2/25/2013 | VOR/DME RWY 19R, Amdt 2
2-May-13 | AK | Bethel | Bethel | 3/8485 | 2/25/2013 | ILS OR LOC/DME Z RWY 19R, Amdt 7A
2-May-13 | IL | Decatur | Decatur | 3/8955 | 2/25/2013 | RNAV (GPS) RWY 24, Orig
2-May-13 | IL | Decatur | Decatur | 3/8961 | 2/25/2013 | ILS OR LOC RWY 6, Amdt 13E
2-May-13 | IL | Decatur | Decatur | 3/8966 | 2/25/2013 | VOR RWY 18, Orig-B
2-May-13 | IL | Decatur | Decatur | 3/8967 | 2/25/2013 | LOC BC RWY 24, Amdt 10B
2-May-13 | IL | Decatur | Decatur | 3/8968 | 2/25/2013 | VOR RWY 36, Amdt 16
2-May-13 | IL | Decatur | Decatur | 3/8969 | 2/25/2013 | RNAV (GPS) RWY 36, Orig-A
2-May-13 | IL | Decatur | Decatur | 3/8970 | 2/25/2013 | RNAV (GPS) RWY 6, Orig-A
2-May-13 | IL | Decatur | Decatur | 3/8971 | 2/25/2013 | RNAV (GPS) RWY 18, Orig
2-May-13 | CA | Redlands | Redlands Muni | 3/9102 | 2/25/2013 | Takeoff Minimums and (Obstacle) Departure Procedures, Orig
2-May-13 | DC | Washington | Manassas Rgnl/Harry P. Davis Field | 3/9819 | 2/25/2013 | RNAV (GPS) RWY 16L, Orig-C
2-May-13 | DC | Washington | Manassas Rgnl/Harry P. Davis Field | 3/9820 | 2/25/2013 | RNAV (GPS) RWY 16R, Orig-C
2-May-13 | DC | Washington | Manassas Rgnl/Harry P. Davis Field | 3/9821 | 2/25/2013 | RNAV (GPS) RWY 34R, Amdt 1
2-May-13 | NY | Penn Yan | Penn Yan | 3/9822 | 2/25/2013 | NDB RWY 28, Amdt 6B
2-May-13 | NY | Penn Yan | Penn Yan | 3/9823 | 2/25/2013 | RNAV (GPS) RWY 1, Amdt 3
2-May-13 | NY | Penn Yan | Penn Yan | 3/9824 | 2/25/2013 | RNAV (GPS) RWY 19, Orig-A

[FR Doc. 2013-05807 Filed 3-15-13; 8:45 am]

BILLING CODE 4910-13-P